SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes a revision and an extension to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget,

Attn: Desk Officer for SSA,

Fax: 202-395-6974,

E-mail address: OIRA_Submission@omb.eop.gov

(SSA)

Social Security Administration, DCBFM,

Attn: Reports Clearance Officer,

1333 Annex Building,

6401 Security Blvd.,

Baltimore, MD 21235,

Fax: 410-965-6400,

E-mail address: OPLM.RCO@ssa.gov

SSA submitted the information collections listed below to OMB for clearance. Your comments on the information collections would be most useful if OMB and SSA receive them within 30 days from the date of this publication. To be sure we consider your comments, we must receive them no later than April 4, 2011. You can obtain a copy of the OMB clearance packages by calling the SSA Reports Clearance Officer at 410-965-8783 or by writing to the above e-mail address.

1. Request for Social Security Earnings Information—20 CFR 404.810 and 401.100—0960-0525. The Social Security Act permits wage earners, or their authorized representative, to request Social Security earnings information from SSA using Form SSA-7050. SSA uses the information to verify the requestor's right to access the information and to produce the earnings statement. The respondents are wage earners and their authorized representatives.

Type of Request: Revision of an OMB-approved information collection.

Number of Respondents: 60,400.

Frequency of Response: 1.

Average Burden per Response: 11 minutes.

Estimated Annual Burden: 11,073 hours.

2. Methods for Conducting Personal Conferences When Waiver of Recovery of a Title II or Title XVI Overpayment Cannot Be Approved—20 CFR 404.506(e)(3), 404.506(f)(8), 416.557(c)(3), and 416.557(d)(8)—0960-0769. SSA conducts personal conferences when we cannot approve a waiver of recovery of a title II or title XVI overpayment. Social Security beneficiaries and Supplemental Security Income (SSI) recipients have the right to request a waiver of recovery and automatically schedule a personal conference if we cannot approve their requests for waiver of overpayment. We conduct these conferences face-to-face, by telephone, or by video teleconference.

Social Security beneficiaries and SSI recipients, or their representatives, may provide documents to demonstrate they are without fault in causing the overpayment and do not have the ability to repay the debt. They may submit these documents with Form SSA-632 (OMB No. 0960-0037) Request for Waiver of Overpayment Recovery; Form SSA-795 (OMB No. 0960-0045), Statement of Claimant or Other Person; or personal statement submitted by mail, telephone, personal contact, fax, or e-mail. This information collection satisfies the request requirements for waiver of recovery of an overpayment and allows individuals to pursue an administrative appeal via personal conference. We use the information to determine whether to grant or deny a waiver request. Respondents are Social Security beneficiaries and SSI recipients or their representatives seeking reconsideration of an SSA waiver decision. Note: This is a correction notice. When SSA published the 60-day Federal Register Notice for this collection on December 22, 2010 at 75 FR 80563, the burden figures we reported were correct at that time. However, we have since received updated burden data that we are reporting in the new burden chart below

Title/section and collection description | Number of respondents | Frequency of response | Average burden per response (minutes) | Total annual burden (hours)
Personal conference 404.506(e)(3) and 404.506(f)(8) submittal of additional documents for consideration at personal conferences. | 50,000 | 1 | 30 | 25,000
Personal conference 416.557(c)(3) and 416.557(d)(8) submittal of additional documents for consideration at personal conferences. | 67,332 | 1 | 30 | 33,666
Total | 117,332 |  |  | 58,666

Dated: March 1, 2011.
Faye Lipsky,
Reports Clearance Officer, Center for Reports Clearance, Social Security Administration.

[FR Doc. 2011-4860 Filed 3-3-11; 8:45 am]

BILLING CODE 4191-02-P